DEPARTMENT OF COMMERCE

Foreign-Trade Zones Board

[Order No. 1703]

Reorganization of Foreign-Trade Zone 126 Under Alternative Site Framework; Reno, NV

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, the Economic Development Authority of Western Nevada, grantee of Foreign-Trade Zone 126, submitted an application to the Board (FTZ Docket 26-2010, filed 4/19/2010) for authority to reorganize under the ASF with a service area of Carson City, Douglas and Storey Counties as well as portions of Churchill, Lyon and Washoe Counties, Nevada, in and adjacent to the Reno Customs and Border Protection port of entry, FTZ 126's existing Sites 1, 4-14 and 17 would be categorized as magnet sites, existing Sites 2, 3, 15 and 16 would be categorized as usage-driven sites, and the grantee proposes two additional usage-driven sites (Sites 18 and 19);

Whereas, notice inviting public comment was given in the Federal Register (75 FR 21594-21595, 4/26/10) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 126 under the alternative site framework is approved, subject to the FTZ Act and the Board's regulations, including Section 400.28, to the Board's standard 2,000-acre activation limit for the overall general-purpose zone project, to a five-year ASF sunset provision for magnet sites that would terminate authority for Sites 1, 4, 5, 7-14 and 17 if not activated by August 31, 2015, and to a three-year ASF sunset provision for usage-driven sites that would terminate authority for Sites 2, 3, 15-16 and 18-19 if no foreign-status merchandise is admitted for a bona fide customs purpose by August 31, 2013.

Signed at Washington, DC, this 19th day of August 2010.
Ronald K. Lorentzen,
Deputy Assistant Secretary for Import Administration, Alternate Chairman, Foreign-Trade Zones Board.
Attest:
Andrew McGilvray,
Executive Secretary.

[FR Doc. 2010-21573 Filed 8-27-10; 8:45 am]

BILLING CODE P